DEPARTMENT OF HEALTH AND HUMAN SERVICES

Administration for Children and Families

Proposed Information Collection Activity; Comment Request

Proposed Projects:

Title: Tracking of Participants in the Early Head Start Research and Evaluation Project.

OMB No.: New Collection.

Description: The Administration for Children and Families (ACF) within the Department of Health and Human Services (HHS) will conduct tracking of children/families who participated in the Early Head Start Research and Evaluation Project (EHSREP). The purpose of tracking these participants is to maintain up-to-date contact information for the children/families in the event that the Administration for Children and Families (ACF) determines that a future follow-up to the EHSREP will take place.

The EHSREP is a longitudinal study designed to meet the requirement in the 1994 reauthorization (continued in the 1998 reauthorization) for a national evaluation of the new infant-toddler program. 3001 children and families in 17 sites were randomly assigned either to the program group (allowed to enroll in EHS), or to the control group (precluded from enrolling in EHS, although they could receive other services in the community). Child and family assessments were conducted when children were 14 months old, 24 months old, 36 months old, in the spring prior to kindergarten entry, and again in the spring of the sixth year of formal schooling (5th grade for most children).

If the decision is made to follow the sample through high school, it is important to maintain contact with the participants so that response rates at follow-up points will be maximized and will not further deteriorate. The success that the contractor has in contacting the sample members will be taken into consideration in the decision whether to pursue further follow up. It is hoped that this strenuous effort in location and tracking will re-establish contact with participants who were not reached in the fifth grade data collection wave. Telephone interviews will be conducted in order to update the respondent's location and contact information. This information will be collected from parents or guardians in the spring of 2011. A small set of additional items will provide information on the parents' perception of the children's status.

Respondents: Treatment and control group members in the Early Head Start Research and Evaluation Project.

Annual Burden Estimates
Instrument | Number of respondents | Number of responses per respondent | Average burden hours per response | Total burden hours
Tracking interview | 2,700 | 1 | 0.25 | 675

Estimated Total Annual Burden Hours: 675.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 28, 2010.
Robert Sargis,
Reports Clearance Officer.

[FR Doc. 2010-27593 Filed 11-1-10; 8:45 am]

BILLING CODE 4184-01-P